INTERNATIONAL TRADE COMMISSION

[USITC SE-18-024]

Government in the Sunshine Act Meeting Notice

Agency Holding the Meeting: United States International Trade Commission.

Time and Date: May 17, 2018 at 9:30 a.m.

Place: Room 101, 500 E Street SW, Washington, DC 20436, Telephone: (202) 205-2000.

Status: Open to the public.

Matters to be Considered:

1. Agendas for future meetings: None.

2. Minutes.

3. Ratification List.

4. Vote in Inv. Nos. 731-TA-1362-1367 (Final) (Cold-Drawn Mechanical Tubing from China, Germany, India, Italy, Korea, and Switzerland). The Commission is currently scheduled to complete and file its determinations and views of the Commission by May 31, 2018.

5. Outstanding action jackets: None.

In accordance with Commission policy, subject matter listed above, not disposed of at the scheduled meeting, may be carried over to the agenda of the following meeting.

By order of the Commission.
Issued: May 9, 2018.
William Bishop,
Supervisory Hearings and Information Officer.

[FR Doc. 2018-10200 Filed 5-9-18; 4:15 pm]

BILLING CODE 7020-02-P